DEPARTMENT OF TRANSPORTATION

Federal Aviation Administration

Environmental Impact Statement: Sitka Rocky Gutierrez Airport, Sitka, AK

AGENCY: Federal Aviation Administration (FAA), DOT.

ACTION: Supplemental Notice of intent.

SUMMARY: The Federal Aviation Administration announces that it will be including the assessment of the transfer of lands from federal to state ownership for aviation uses within the Environmental Impact Statement (EIS) currently being prepared by the Federal Aviation Administration. Public and Agency Scoping comments are being sought by the Federal Aviation Administration to receive input regarding the assessment of this additional proposed project within the EIS.

Responsible Official: Patricia A. Sullivan, Environmental Protection Specialist, Federal Aviation Administration, Alaskan Region, Airports Division, 222 W. 7th Avenue, #14, Anchorage, AK 99513-7587, Telephone (907) 271-5454.

FOR FURTHER INFORMATION CONTACT: Patricia A. Sullivan, Environmental Protection Specialist, Federal Aviation Administration, Alaskan Region, Airports Division, 222 W. 7th Avenue, #14, Anchorage, AK 99513-7587, Telephone (907) 271-5454.

Submit Written Comments, Send to:Patricia A. Sullivan, Environmental Protection Specialist, Federal Aviation Administration, Alaskan Region, Airports Division, 222 W. 7th Avenue, #14, Anchorage, AK 99513-7587, Telephone (907) 271-5454.

SUPPLEMENTARY INFORMATION: The FAA is currently preparing an EIS for the implementation of proposed projects at the Sitka Rocky Gutierrez Airport. Major projects already included in the EIS include improvements to the runway safety area; installation of an approach light system; construction of a parallel taxiway; construction of a seaplane pullout; and repairs and improvements to the airport seawall. These projects, along with other projects proposed to improve safety and efficiency and accommodate growing aviation demand, were identified in the Sitka Airport Master Plan.

It has been determined that portions of property believed to be existing airport lands are not currently state owned, but instead are federally owned, and managed by the Bureau of Land Management. If the proposed airport improvements are approved through the EIS process, portions of the federal lands, including those commonly referred to as the Makhnati lands, would need to be transferred from federal to state ownership before implementation of proposed airport improvements. As such, the FAA is adding the transfer of the lands necessary for implementation of the projects being assessed in the EIS as well as lands necessary for other existing and future aviation uses, as a proposed action that will be examined in the EIS. The federally owned lands needed for aviation uses include segments of filled land on Japonski Island, Charcoal Island, and portions of submerged land surrounding the airport.

To ensure that the full range of issues related to the proposed actions are addressed and that all significant issues are identified, the FAA intends to coordinate and consult with the public; tribal governments; and Federal, State, and local agencies that have jurisdiction by law or have special expertise with respect to any environmental impacts associated with the proposed projects.

Agencies and the public may submit written comments via the address under, “To Submit Written Comments, Send to.” Comments must be submitted by December 31, 2007.

Issued in Anchorage, Alaska, on November 19, 2007.
Byron K. Huffman,
Manager, Airports Division, AAL-600.

[FR Doc. 07-5850 Filed 11-27-07; 8:45 am]

BILLING CODE 4910-13-M